DEPARTMENT OF TRANSPORTATION

Federal Aviation Administration

Aviation Rulemaking Advisory Committee Meeting on Rotorcraft Issues

AGENCY: Federal Aviation Administration (FAA), DOT.

ACTION: Notice of public meeting.

SUMMARY: This notice announces a public meeting of the FAA's Aviation Rulemaking Advisory Committee (ARAC) to discuss rotorcraft issues.

DATES: The meeting is scheduled for Sunday, February 24, 2008, starting at 5 pm, Central Standard Time. Arrange for oral presentations by February 15, 2008.

ADDRESSES: George R. Brown Convention Center, Room 371 B and C (room subject to change, please check events program on day of meeting), 1001 Avenida de las Americas, Houston, Texas 77010.

FOR FURTHER INFORMATION CONTACT: Nicanor Davidson, Office of Rulemaking, ARM-207, FAA, 800 Independence Avenue, SW., Washington, DC 20591, Telephone (202) 267-5174, FAX (202) 267-5075, or e-mail at nicanor.davidson@faa.gov.

SUPPLEMENTARY INFORMATION: The referenced meeting is announced pursuant to section 10(a)(2) of the Federal Advisory Committee Act (Pub. L. 92-463; 5 U.S.C. app. III).

The agenda for the meeting is as follows:

• Opening Remarks

• Working Group Status Reports—A Discussion and Approval of Damage Tolerance and Fatigue Evaluation of Composite Rotorcraft Structure (proposed advisory circular material package)

• FAA Status Report

Performance and Handling Qualities Requirements (Final Rule)

Fatigue Tolerance Evaluation of Metallic Structures (Notice of Proposed Rulemaking and guidance material)

• Other Business

• Future Meetings

• Adjourn

Attendance is open to the interested public, but will be limited to the availability of meeting room space. For persons participating by telephone, the call-in number is (202) 366-3920; the Passcode is “5551”. Anyone participating by telephone will be responsible for paying long-distance charges.

The public must make arrangements by February 15, 2008 to present oral statements at the meeting. Written statements may be presented to the ARAC at any time by providing 25 copies to the person listed in the FOR FURTHER INFORMATION CONTACT section or by providing copies at the meeting.

If you need assistance or require a reasonable accommodation for the meeting or meeting documents, please contact the person listed in the FOR FURTHER INFORMATION CONTACT section. Sign and oral interpretation, as well as a listening device, can be made available if requested 10 calendar days before the meeting.

Issued in Washington, DC on January 18, 2008.
Pamela Hamilton-Powell,
Director, Office of Rulemaking.

[FR Doc. E8-1299 Filed 1-24-08; 8:45 am]

BILLING CODE 4910-13-P